NATIONAL AERONAUTICS AND SPACE ADMINISTRATION

[Notice (11-018)]

Notice of Intent To Grant a Partially Exclusive License

AGENCY: National Aeronautics and Space Administration.

ACTION: Notice of intent to grant a partially exclusive license.

SUMMARY: This notice is issued in accordance with 35 U.S.C. 209(c)(1) and 37 CFR 404.7(a)(1)(i). NASA hereby gives notice of its intent to grant a partially exclusive license in the United States to practice the invention described and claimed in United States Patent 7,509,774 (issued March 31, 2009) and NASA Case No. MSC 24201-1, entitled “Apparatus For Integrating A Rigid Structure Into A Flexible Wall Of An Inflatable Structure” to Bigelow Aerospace, having its principal place of business in North Las Vegas, Nevada. The fields of use may be limited to expandable spacecraft, vehicles, modules, and the like for operation in exoatmospheric space, including applications, sales, lease, and other commercial uses or applications thereof for research and development, space tourism, and other commercial endeavors. The patent rights in this invention have been assigned to the United States of America as represented by the Administrator of the National Aeronautics and Space Administration. The prospective partially exclusive license will comply with the terms and conditions of 35 U.S.C. 209 and 37 CFR 404.7.

DATES: The prospective partially exclusive license may be granted unless within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to the Johnson Space Center (JSC) Patent Counsel, JSC Office of Chief Counsel, Mail Code AL, 2101 NASA Parkway, Houston, Texas 77058.

FOR FURTHER INFORMATION CONTACT: Theodore U. Ro, Patent Attorney, JSC Office of Chief Counsel, (281) 244-7148 (phone), (281) 483-6936 (fax), theodore.u.ro@nasa.gov (e-mail address). Information about other NASA inventions available for licensing can be found online at http://technology.nasa.gov/

Dated: February 5, 2011.
Richard W. Sherman,
Deputy General Counsel.

[FR Doc. 2011-3781 Filed 2-18-11; 8:45 am]

BILLING CODE P